DEPARTMENT OF THE INTERIOR

Bureau of Land Management

[LLAZG02200.L16100000.DQ0000.LXSS206A0000]

Notice of Availability of the Proposed San Pedro Riparian National Conservation Area Resource Management Plan and Final Environmental Impact Statement, Arizona

AGENCY: Bureau of Land Management, Interior.

ACTION: Notice of availability.

SUMMARY: In accordance with the National Environmental Policy Act of 1969, as amended, and the Federal Land Policy and Management Act of 1976, as amended, the Bureau of Land Management (BLM) Tucson Field Office has prepared a Proposed Resource Management Plan (RMP) and Final Environmental Impact Statement (EIS) for the San Pedro Riparian National Conservation Area and by this notice is announcing its availability.

DATES: BLM planning regulations state that any person who meets the conditions as described in the regulations may protest the BLM's Proposed RMP/Final EIS. A person who meets the conditions and files a protest must file the protest within 30 days of the date that the Environmental Protection Agency publishes its Notice of Availability in the Federal Register.

ADDRESSES: The Proposed RMP and Final EIS is available on the BLM ePlanning project website at https://go.usa.gov/xQKFU. Click the “Documents & Reports” link on the left side of the screen to find the electronic version of these materials. Hard copies of the Proposed RMP/Final EIS are also available for public inspection at the Arizona State Office, One North Central Ave., Suite 800 (8th Floor), Phoenix, AZ 84004; and the Tucson Field Office, 3201 East Universal Way, Tucson, AZ 85756.

All protests must be in writing and filed with the BLM Director, either as a hard copy or electronically via the BLM's ePlanning project website listed previously. To submit a protest electronically, go to the ePlanning project website and follow the protest instructions highlighted at the top of the home page. If submitting a protest in hard copy, it must be mailed to one of the following addresses:

Regular Mail: BLM Director (210), Attention: Protest Coordinator, P.O. Box 71383, Washington, DC 20024-1383

Overnight Delivery: BLM Director (210), Attention: Protest Coordinator, 20 M Street SE, Room 2134LM, Washington, DC 20003

FOR FURTHER INFORMATION CONTACT: Amy McGowan, Planning & Environmental Specialist, telephone 520-258-7231; address 3201 East Universal Way, Tucson, AZ 85756; email blm_az_tfo_sprnca_rmp@blm.gov.

Persons who use a telecommunications device for the deaf (TDD) may call the Federal Relay Service (FRS) at 1-800-877-8339 to contact Ms. McGowan during normal business hours. The FRS is available 24 hours a day, 7 days a week, to leave a message or question. You will receive a reply during normal business hours.

SUPPLEMENTARY INFORMATION: The Conservation Area was established by Public Law 100-696 on November 18, 1988. The planning area is located in Cochise County in southeastern Arizona, and encompasses approximately 55,990 acres of public land administered by the BLM Tucson Field Office. The Proposed RMP/Final EIS was prepared to address long-term management of the Conservation Area, accounting for the requirements of the enabling legislation.

Issues identified as part of the planning process and addressed in the Proposed RMP/Final EIS include management of riparian, water, vegetation, soil resources, fire, threatened and endangered species, wildlife, cultural resources, paleontological resources, educational, scientific, livestock grazing, access, recreation, socio-economics, and lands and realty. It also considers lands with wilderness characteristics, wild and scenic rivers, and Areas of Critical Environmental Concern.

The Proposed RMP/Final EIS evaluates a range of alternatives including the No Action and the proposed plan. A detailed description of these alternatives can be found in Chapter 2 of the Final EIS. The BLM's proposed plan is Alternative C, except that it includes the livestock grazing allocation from Alternative A, which allows grazing on 7,030 acres. This grazing allocation represents current management on the Conservation Area. The BLM's proposed plan represents a balance between resource protection and public access, authorizes livestock grazing on existing allotments, and provides for a diverse mix of recreation opportunities. The proposed plan focuses on active resource management and allows for the broadest array of management tools for ecosystem restoration to meet goals and objectives.

Comments on the Draft RMP/Draft EIS received from cooperators, tribes, other agencies, the public, and internal BLM review were considered and incorporated as appropriate into the proposed plan. In response to public comments, additional information related to increased livestock grazing was analyzed in the Final EIS and showed additional impacts on wildlife habitat and cultural and water resources would occur in areas not currently grazed. As a result, the BLM chose the existing grazing allocation as part of the proposed plan.

Instructions for filing a protest with the Director of the BLM regarding the Proposed RMP and Final EIS may be found online at https://www.blm.gov/programs/planning-and-nepa/public-participation/filing-a-plan-protest and at 43 CFR 1610.5-2. All protests must be in writing and mailed to the appropriate address, as set forth previously in the ADDRESSES section or submitted electronically through the BLM ePlanning project website as described earlier. Protests submitted electronically by any means other than the ePlanning project website protest section will be invalid unless a protest is also submitted in hard copy. Protests submitted by fax will also be invalid unless also submitted either through ePlanning project website protest section or in hard copy.

Before including your phone number, email address, or other personal identifying information in your protest, you should be aware that your entire protest—including your personal identifying information—may be made publicly available at any time. While you can ask us in your protest to withhold your personal identifying information from public review, we cannot guarantee that we will be able to do so.

(Authority: 40 CFR 1506.6, 40 CFR 1506.10, 43 CFR 1610.2, 43 CFR 1610.5)

Raymond Suazo,
Arizona State Director.

[FR Doc. 2019-08287 Filed 4-25-19; 8:45 am]

BILLING CODE 4310-32-P